DEPARTMENT OF COMMERCE

National Oceanic and Atmospheric Administration

[RTID 0648-XB062]

Pacific Fishery Management Council; Public Meeting

AGENCY: National Marine Fisheries Service (NMFS), National Oceanic and Atmospheric Administration (NOAA), Commerce.

ACTION: Notice of public online meeting.

SUMMARY: The Pacific Fishery Management Council's (Pacific Council) Scientific and Statistical Committee's (SSC's) Economics and Groundfish Subcommittees will meet to review a new Quota Share Owners' Cost Survey to inform decisions on the west coast limited entry trawl catch shares program and to do some initial planning on an upcoming review of the limited entry fixed gear sablefish program.

DATES: The online meeting will be held Wednesday, May 26, 2021, from 9 a.m.to 1 p.m., Pacific Daylight Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer, Pacific Council; telephone: (503) 820-2413.

SUPPLEMENTARY INFORMATION: The purpose of the SSC Economics and Groundfish Subcommittees' meeting will be to review a new Quota Shares Owners' Cost Survey proposed by the Northwest Fisheries Science Center to inform future management decisions on the west coast limited entry trawl catch shares program. The SSC Economics and Groundfish Subcommittees will also work with Pacific Council staff to plan the upcoming review of the limited entry fixed gear sablefish program. The SSC Economics and Groundfish Subcommittees' reports are scheduled to be presented to the full SSC and the Pacific Council at the June 2021 Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt, (kris.kleinschmidt@noaa.gov; (503) 820-2412), at least 10 days prior to the meeting date.

Authority: 16 U.S.C. 1801 et seq.

Dated: April 30, 2021.
Tracey L. Thompson,
Acting Deputy Director, Office of Sustainable Fisheries, National Marine Fisheries Service.

[FR Doc. 2021-09503 Filed 5-4-21; 8:45 am]

BILLING CODE 3510-22-P